NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208) (V180104)—NANOGrav Site Visit.

Date and Time: October 25, 2017; 8:30 a.m.-8:00 p.m., October 26, 2017; 8:30 a.m.-4:00 p.m.

Place: West Virginia University, 1500 University Avenue, Stewart Hall, Morgantown, West Virginia 26506.

Type of Meeting: Part-Open.

Contact Person: Jean Cottam-Allen, Program Director for Physics Frontier Centers, Division of Physics, National Science Foundation, 2415 Eisenhower Avenue., Room 9245, Alexandria, VA 22314; Telephone: (703) 292-8783.

Purpose of Meeting: Site visit to provide an evaluation of the progress of the projects at the host site for the Division of Physics at the National Science Foundation.

Agenda

October 25, 2017; 8:30 a.m.-7:00 p.m.

08:30-12:00 Panel Session: Presentations on Center Overview, Management and Science

12:00-1330 Lunch with Graduate Students and Postdocs

13:30-1600 Panel Session: Continued Science Presentations, Education and Outreach

16:00-1700 Executive Session—CLOSED SESSION

17:00-1900 Poster Session

19:00-2000 Executive Session—CLOSED SESSION

October 26, 2017; 8:30 a.m.-4:00 p.m.

08:30-11:00 Meeting with University Administrators; Discussion with Center Directors

11:00-15:00 Executive Session—CLOSED SESSION

15:00-1600 Closeout Session with Center Directors

Reason for Closing: Topics to be discussed and evaluated during closed sessions of the site review will include information of a proprietary or confidential nature, including technical information and information on personnel. These matters are exempt under 5 U.S.C. 552b(c), (4) and (6) of the Government in the Sunshine Act.

Dated: September 18, 2017.
Crystal Robinson,
Committee Management Officer.

[FR Doc. 2017-20168 Filed 9-21-17; 8:45 am]

BILLING CODE 7555-01-P